DEPARTMENT OF DEFENSE

Office of the Secretary

Federal Advisory Committee; Military Leadership Diversity Commission (MLDC)

AGENCY: Office of the Under Secretary of Defense for Personnel and Readiness.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet September 27-29, 2010, in Baltimore, MD.

DATES: The meeting will be held on September 27 (from 7 p.m. to 9:30 p.m.), September 28 (from 8 a.m. to 8 p.m.), and September 29, 2010 (from 8 a.m. to 5:30 p.m.).

An Administrative Working Meeting that is scheduled for September 27 from 7 to 8 p.m. is closed to the public.

ADDRESSES: The meeting will be held at the Mt. Washington Conference Center, 5801 Smith Ave, Suite 1100, Baltimore, MD 21209.

FOR FURTHER INFORMATION CONTACT: Master Chief Steven A. Hady, Designated Federal Officer, MLDC, at (703) 602-0838 or (571) 882-0140, 1851 South Bell Street, Suite 532, Arlington, VA. E-mail: steven.Hady@wso.whs.mil.

SUPPLEMENTARY INFORMATION: Due to internal DoD difficulties, beyond the control of the Military Leadership Diversity Commission or its Designated Federal Officer, the Government was unable to process the Federal Register notice for the September 27-29, 2010, meeting of the Military Leadership Diversity Commission as required by 41 CFR 102-3.150(a). Accordingly, the Advisory Committee Management Officer for the Department of Defense, pursuant to 41 CFR 102-3.150(b), waives the 15-calendar day notification requirement.

Purpose of the Meeting

The purpose of the meeting is for the commissioners of the Military Leadership Diversity Commission to continue their efforts to address congressional concerns as outlined in the commission charter.

Agenda

September 27, 2010

7 p.m.-8 p.m.

Administrative Working Meeting (closed to the public)

8 p.m.-9:30 p.m.

Designated Federal Officer (DFO) opens meeting.

Commission Chairman opening remarks.

National Guard and Reserve Decision Brief

Commission Chairman closing remarks.

DFO adjourns the meeting.

September 28, 2010

8 a.m.-9 a.m.

DFO opens the meeting.

Commission Chairman opening remarks.

Deliberation of Outreach and Recruiting.

Deliberation of Retention.

9 a.m.-10 a.m.

Dr. Clifford Stanley, OSD P&R addresses MLDC

10 a.m.-10:30 a.m.

Presentation of Definition of Diversity.

DFO recesses the meeting.

11 a.m.-12 p.m.

DFO opens the meeting.

Deliberation of Definition of Diversity.

DFO recesses the meeting.

1 p.m.-1:30 p.m.

DFO opens the meeting.

Presentation of recommendations for Implementation and Accountability.

DFO recesses the meeting.

2 p.m.-4 p.m.

DFO opens the meeting.

Deliberation of recommendations for Implementation and Accountability.

4 p.m.-4:30 p.m.

DFO opens the meeting.

Presentation of recommendations for National Guard and Reserve.

DFO recesses the meeting.

6 p.m.-7:45 p.m.

DFO opens the meeting.

Deliberation of recommendations for National Guard and Reserve.

7:45 p.m.-8 p.m.

Public Comments.

Commission Chairman closing remarks.

DFO adjourns the meeting.

September 29, 2010

8 a.m.-8:15 a.m.

DFO opens the meeting.

Commission Chairman opening remarks.

8:15 a.m.-9:45 a.m.

Panel discussion regarding DoD/Service combat exclusion policies.

9:45 a.m.-10:15 a.m.

Presentation of recommendations for branching and assignments.

DFO recesses the meeting.

11 a.m.-12:30 p.m.

DFO opens the meeting.

Deliberation of recommendations for branching and assignments.

1:30 p.m.-5 p.m.

Revise and finalize recommendations.

5 p.m.-5:30 p.m.

Public Comments.

Commission Chairman closing remarks.

DFO adjourns the meeting.

Public's Accessibility to the Meeting

Pursuant to 5 U.S.C. 552b and 41 CFR 102-3.140 through 102-3.165, and the availability of space, the meetings on September 27 through 29, 2010, will be open to the public. However, pursuant to 41 CFR 3.160(b), the Administrative Working Meeting on September 27, 2010, from 7 p.m. to 8 p.m. shall be closed to the public.

Please note that the availability of seating is on a first-come basis.

Written Statements

Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for its consideration. Contact information for the Designated Federal Officer can be obtained from the GSA's FACA Database-— https://www.fido.gov/facadatabase/public.asp.

Statements being submitted in response to the agenda mentioned in this notice must be received by the Designated Federal Officer at the address listed above at least five calendar days prior to the meeting that is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: September 10, 2010.
Mitchell S. Bryman,
Alternate OSD Federal Register Liaison Officer, Department of Defense.

[FR Doc. 2010-23056 Filed 9-15-10; 8:45 am]

BILLING CODE 5001-06-P